DEPARTMENT OF COMMERCE

Foreign-Trade Zones Board

[B-44-2018]

Foreign-Trade Zone 116—Port Arthur, Texas; Expansion of Subzone 116A; Motiva Enterprises LLC; Jefferson and Hardin Counties, Texas

An application has been submitted to the Foreign-Trade Zones (FTZ) Board by the Foreign-Trade Zone of Southeast Texas, Inc., grantee of FTZ 116, requesting an expansion of Subzone 116A on behalf of Motiva Enterprises LLC. The application was submitted pursuant to the provisions of the Foreign-Trade Zones Act, as amended (19 U.S.C. 81a-81u), and the regulations of the FTZ Board (15 CFR part 400). It was formally docketed on July 2, 2018.

Subzone 116A was approved on December 21, 1993 (Board Order 668, 59 FR 61, January 3, 1994), and expanded on May 9, 2018 (Board Order 2051, 83 FR 22441-22442, May 15, 2018). The subzone currently consists of eight sites located in Jefferson and Hardin Counties: Site 1 (3,036 acres)—Port Arthur refinery complex, Jefferson County, adjacent to the City of Port Arthur; Site 2 (402 acres)—crude storage and asphalt production facility, Jefferson County, adjacent to the City of Port Neches; Site 3 (126 acres)—terminal and docking facility, Jefferson County, 2 miles south of Port Arthur; Site 4 (37 acres)—LPG underground storage facility, Hardin County, 1 mile northwest of the City of Sour Lake; Site 5 (63 acres)—Seventh Street storage facility, Jefferson County, south of Port Arthur; Site 6 (97 acres)—National Station storage facility, Jefferson County, adjacent to Site 1; Site 7 (12.7 acres)—Sun Pipe Line Company crude oil petroleum terminal located on State Highway 347 North in Nederland and a pipeline that connects to Site 1; and, Site 8 (2 acres)—Port of Port Arthur, 100 W. Lakeshore Drive (Berth 3), Port Arthur and a pipeline that links the berth to Site 5.

The applicant is requesting authority to expand the subzone to include an additional site: Proposed Site 9 (137 acres)—800 Dorsey Road, Port Arthur. The proposed site would include several pipelines. No additional authorization for production activity has been requested at this time.

In accordance with the FTZ Board's regulations, Camille Evans of the FTZ Staff is designated examiner to review the application and make recommendations to the FTZ Board.

Public comment is invited from interested parties. Submissions shall be addressed to the FTZ Board's Executive Secretary at the address below. The closing period for their receipt is August 20, 2018. Rebuttal comments in response to material submitted during the foregoing period may be submitted during the subsequent 15-day period to September 4, 2018.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz.

For further information, contact Camille Evans at Camille.Evans@trade.gov or (202) 482-2350.

Dated: July 2, 2018.
Elizabeth Whiteman,
Acting Executive Secretary.

[FR Doc. 2018-14612 Filed 7-6-18; 8:45 am]

BILLING CODE 3510-DS-P